DEPARTMENT OF HEALTH AND HUMAN SERVICES

Health Resources and Services Administration

Notice To Announce Supplemental Awards To Support Technical Assistance To Address the HIV Epidemic

AGENCY: Health Resources and Services Administration (HRSA), Department of Health and Human Services.

ACTION: Notice to announce supplemental awards to support technical assistance to address the HIV epidemic.

SUMMARY: HRSA provided supplemental grant funds to two currently funded National Training and Technical Assistance Cooperative Agreement award recipients to support ending the HIV epidemic by providing critical expertise and resources to health centers in geographic locations identified in Ending the HIV Epidemic: A Plan for America.

FOR FURTHER INFORMATION CONTACT: Tracey Orloff, Strategic Partnerships Division Director in the Office of Quality Improvement, at TOrloff@hrsa.gov or (301) 443-3197.

SUPPLEMENTARY INFORMATION:

Recipients: Two current National Training and Technical Assistance Cooperative Agreement award recipients, as listed in Table 1.

Amount of Non-Competitive Awards: Two awards with a combined total of $249,000.

Period of Supplemental Funding: Fiscal year 2019.

CFDA Number: 93.129.

Authority: Section 330(l) of the Public Health Service Act, as amended.

Justification: The award recipients will provide specialized training and technical assistance (T/TA) to health centers in geographic areas with the highest HIV burden, which include 48 counties; Washington, DC; San Juan; Puerto Rico; as well as seven states that have a substantial rural HIV burden. JSI Research and Training Institute, Inc. will provide T/TA focused on the use of data in HIV outreach, in-reach, and prevention efforts. Fenway Community Health Center will provide T/TA focused on expanding the use of pre-exposure prophylaxis and addressing barriers to patients seeking HIV prevention care. Supplemental funds are necessary to support timely implementation of critical T/TA to health centers in geographic locations identified by the Ending the HIV Epidemic initiative. The award recipients have the demonstrated expertise and scalable experience required to swiftly address these time-sensitive T/TA needs.

Table 1—Recipients and Award Amounts
Grant No. | Award recipient name | Award amount ($)
U30CS29366 | JSI Research and Training Institute, Inc | 130,000
U30CS22742 | Fenway Community Health Center | 119,000

Dated: July 30, 2019.
George Sigounas,
Administrator.

[FR Doc. 2019-16585 Filed 8-1-19; 8:45 am]

BILLING CODE 4165-15-P